DEPARTMENT OF DEFENSE

Department of the Army; Corps of Engineers

Board on Coastal Engineering Research

AGENCY: Department of the Army, DoD.

ACTION: Notice of meeting.

SUMMARY: In accordance with Section 10(a)(2) of the Federal Advisory Committee Act (Pub. L. 92-463), announcement is made of the following committee meeting:

Name of Committee: Board on Coastal Engineering Research.

DATES: Date of Meeting: February 7-8, 2012.

Place: Hearing Room, Kingman Building, 7701 Telegraph Road, Alexandria, VA 22315.

Time: 9 a.m. to 4:30 p.m. (February 7, 2012), 9 a.m. to 12 p.m. (February 8, 2012).

FOR FURTHER INFORMATION CONTACT: Inquiries and notice of intent to attend the meeting may be addressed to COL Kevin J. Wilson, Executive Secretary, U.S. Army Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: On Tuesday, February 7, the Executive Session is devoted to addressing the role of the Board on Coastal Engineering Research, including the history of the Board, discussion of the Board functions and responsibilities, and ways to enhance the value of the Board recommendations to the Chief of Engineers. The Board will also discuss the annual meeting and executive sessions formats.

On Wednesday morning, February 8, the Board will discuss pending action items.

The meeting is open to the public, but since seating capacity of the meeting room is limited, advance notice of intent to attend is required.

Kevin J. Wilson,
Colonel, Corps of Engineers, Executive Secretary.

[FR Doc. 2012-1193 Filed 1-20-12; 8:45 am]

BILLING CODE 3720-58-P